DEPARTMENT OF THE INTERIOR

Fish and Wildlife Service

50 CFR Part 17

[Docket No. FWS-HQ-ES-2018-0096; 4500030113]

RIN 1018-BD72

Endangered and Threatened Wildlife and Plants; Adding 16 Species, Removing One Species, and Updating Entries for 17 Species on the List of Endangered and Threatened Wildlife

AGENCY: Fish and Wildlife Service, Interior.

ACTION: Final rule; correcting amendments.

SUMMARY: We, the U.S. Fish and Wildlife Service (Service), are amending the List of Endangered and Threatened Wildlife (List) by adding 16 species (gulf grouper, island grouper, common guitarfish, blackchin guitarfish, daggernose shark, Brazilian guitarfish, striped smoothhound shark, spiny angelshark, Argentine angelshark, narrownose smoothhound shark, Maui dolphin, Hector's dolphin, giant manta ray, oceanic whitetip shark, Taiwanese humpback dolphin, and chambered nautilus) and by removing one species (Puget Sound-Georgia Basin distinct population segment (DPS) of canary rockfish). We are also updating the entries for the following six species by adding critical habitat designation citations: Gulf of Maine DPS of Atlantic sturgeon, New York Bight DPS of Atlantic sturgeon, Chesapeake Bay DPS of Atlantic sturgeon, South Atlantic DPS of Atlantic sturgeon, Carolina DPS of Atlantic sturgeon, and Main Hawaiian Islands Insular DPS of false killer whale. Lastly, we are updating the genus name for the Saimaa subspecies of ringed seal. The above amendments are based on previously published determinations by the National Marine Fisheries Service (NMFS) of the National Oceanic and Atmospheric Administration, Department of Commerce, which has jurisdiction for these species. We are also adding nonsubstantive corrections to entries for 10 other species on the List: Three foreign coral species, dusky sea snake, Banggai cardinalfish, the Tanzanian DPS of African coelacanth, Nassau grouper, and three angelshark species. We added these 10 species to the List in 2016, but the entries did not include the Federal Register citations for the final listing rule, as is our standard practice when we add new entries to the List. The changes being made via this rule simply provide information that may be helpful to members of the public who are interested in tracking the regulatory history of these species.

DATES:

Effective date: This rule is effective April 8, 2019.

Applicability date: The gulf grouper and island grouper listings were applicable as of November 21, 2016. The common guitarfish and blackchin guitarfish listings were applicable as of February 21, 2017. The daggernose shark, Brazilian guitarfish, striped smoothhound shark, spiny angelshark, Argentine angelshark, and narrownose smoothhound shark listings were applicable as of June 9, 2017. The Maui dolphin and Hector's dolphin listings were applicable as of October 19, 2017. The giant manta ray listing was applicable as of February 21, 2018. The oceanic whitetip shark listing was applicable as of March 1, 2018. The Taiwanese humpback dolphin listing was applicable as of June 8, 2018. The chambered nautilus listing was applicable as of October 29, 2018. The Puget Sound-Georgia Basin DPS of canary rockfish delisting was applicable as of March 24, 2017. The critical habitat designation for the Atlantic sturgeon DPSs was applicable as of September 18, 2017. The critical habitat designation for the Main Hawaiian Islands Insular DPS of false killer whale was applicable as of August 23, 2018.

FOR FURTHER INFORMATION CONTACT: Sarah Quamme, Chief, Branch of Domestic Listing, U.S. Fish and Wildlife Service, MS-ES, 5275 Leesburg Pike, Falls Church, VA 22041-3803; 703-358-1796.

SUPPLEMENTARY INFORMATION:

Background

In accordance with the Endangered Species Act of 1973, as amended (Act; 16 U.S.C. 1531 et seq.), and Reorganization Plan No. 4 of 1970 (35 FR 15627; October 6, 1970), the National Marine Fisheries Service (NMFS) of the National Oceanic and Atmospheric Administration, Department of Commerce, has jurisdiction over the marine and anadromous taxa specified in this rule. Under section 4(a)(1) of the Act, NMFS must decide whether a species under its jurisdiction should be classified as endangered or threatened. NMFS makes these determinations via its rulemaking process. Under section 4(a)(2) of the Act, we, the Service, are then responsible for publishing final rules to amend the List in title 50 of the Code of Federal Regulations (CFR) at 50 CFR 17.11(h). Therefore, the Service rule is the final step in a rulemaking process begun by NMFS to add these species to the List.

As described below and set forth at the table in the Regulation Promulgation section of this document, NMFS has published rules regarding each of the species mentioned in this document. Section 4(a)(2)(A) of the Act applies to all of the rules except for the rule concerning the Puget Sound-Georgia Basin DPS of canary rockfish; with respect to those rules, by publishing this final rule, we are simply taking the necessary administrative step to codify these changes in the CFR. Section 4(a)(2)(B) of the Act applies to the NMFS's recommendation to delist the Puget Sound-Georgia Basin DPS of canary rockfish; we concur with NMFS's recommendation, and this rule implements that action.

Listings

We are adding the following 16 species to the List based on NMFS final rules:

• Gulf grouper (81 FR 72545; October 20, 2016)

• island grouper (81 FR 72545; October 20, 2016)

• common guitarfish (82 FR 6309; January 19, 2017)

• blackchin guitarfish (82 FR 6309; January 19, 2017)

• daggernose shark (82 FR 21722; May 10, 2017)

• Brazilian guitarfish (82 FR 21722; May 10, 2017)

• striped smoothhound shark (82 FR 21722; May 10, 2017)

• spiny angelshark (82 FR 21722; May 10, 2017)

• Argentine angelshark (82 FR 21722; May 10, 2017)

• narrownose smoothhound shark (82 FR 21722; May 10, 2017)

• Maui dolphin (82 FR 43701; September 19, 2017)

• Hector's dolphin (82 FR 43701; September 19, 2017)

• giant manta ray (83 FR 2916; January 22, 2018)

• oceanic whitetip shark (83 FR 4153; January 30, 2018)

• Taiwanese humpback dolphin (83 FR 21182; May 9, 2018)

• chambered nautilus (83 FR 48976; September 28, 2018)

Delisting

We are removing the following species from the List based on a NMFS final rule:

• Puget Sound-Georgia Basin DPS of canary rockfish (82 FR 7711; January 23, 2017)

Critical Habitat

We are adding critical habitat citations to the following species based on NMFS final rules:

• Gulf of Maine, New York Bight, Chesapeake Bay, Carolina, and South Atlantic DPSs of Atlantic sturgeon (82 FR 39160; August 17, 2017)

• Main Hawaiian Islands Insular DPS of false killer whale (83 FR 35062; July 24, 2018)

Updates

In the final rule to revise the CFR for species under NMFS' jurisdiction (79 FR 20802; April 14, 2014), NMFS updated the genus name for the Saimaa subspecies of ringed seal. By publishing this final rule, we are simply taking the necessary administrative step to codify these changes in the List at 50 CFR 17.11(h).

Under the provisions of 50 CFR 17.11(f), the column in the List with the heading “Listing citations and applicable rules” is nonregulatory and is provided for informational and navigational purposes only. In that column, we provide the Federal Register citations for rulemaking actions pertaining to the listing of the species under the Act.

On November 2, 2016, we published a final rule (81 FR 76311) that, among other things, added the following 10 species to the List at 50 CFR 17.11(h):

• Three foreign coral species (Cantharellus noumeae, Siderastrea glynni, and Tubastraea floreana),

• Dusky sea snake (Aipysurus fuscus),

• Banggai cardinalfish (Pterapogon kauderni),

• The Tanzanian DPS of African coelacanth (Latimeria chalumnae),

• Nassau grouper (Epinephelus striatus), and

• Three angelshark species (Squatina aculeata, S. oculata, and S. squatina).

The rule was effective on the day of publication. Please see that rule for information about the rulemaking histories pertaining to these species.

In our November 2, 2016, final rule (81 FR 76311), the “Listing citations and applicable rules” column did not include the Federal Register citations for the November 2, 2016, rule, which, as explained above, is the final step of the rulemaking process begun by NMFS to add the species to the List. Instead, the “Listing citations and applicable rules” column included only the Federal Register citations for the NMFS rules that led up to our November 2, 2016, final rule (81 FR 76311).

With this rule, we add the Federal Register citation for the November 2, 2016, final rule (81 FR 76311) to the 10 entries in the above list.

Administrative Procedure Act

Because NMFS provided a public comment period on the proposed listing and critical habitat rules for these taxa, and because this action of the Service to amend the List in accordance with the determinations by NMFS is nondiscretionary, the Service finds good cause that the notice and public comment procedures of 5 U.S.C. 553(b) are unnecessary for this action. Because NMFS provided a public comment period on the proposed delisting rule for the Puget Sound-Georgia Basin DPS of canary rockfish, and we concur with NMFS' actions, we find good cause that the notice and public comment procedures of 5 U.S.C. 553(b) are unnecessary for this action. We also find good cause under 5 U.S.C. 553(d)(3) to make this rule effective immediately. The NMFS rules extended protection under the Act to these identified species above and listed them in 50 CFR parts 223 and 224; this rule is an administrative action to add the species to the List at 50 CFR 17.11(h). The public would not be served by delaying the effective date of this rulemaking action.

Required Determinations

National Environmental Policy Act

We have determined that an environmental assessment, as defined under the authority of the National Environmental Policy Act of 1969, need not be prepared in connection with regulations adopted pursuant to section 4(a) of the Act. We outlined our reasons for this determination in the Federal Register on October 25, 1983 (48 FR 49244).

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. Amend § 17.11(h), the List of Endangered and Threatened Wildlife:

a. Under the heading MAMMALS, by:

i. Adding in alphabetical order entries for “Dolphin, Hector's,” “Dolphin, Maui,” and “Dolphin, Taiwanese humpback”; and

ii. Revising the entries for “Seal, ringed (Saimaa subspecies)” and “Whale, false killer [Main Hawaiian Islands Insular DPS]”;

b. Under the heading REPTILES, by revising the entry for “Sea snake, dusky”;

c. Under the heading FISHES, by:

i. Adding in alphabetical order an entry for “Angelshark, Argentine”;

ii. Revising the entries for “Angelshark, common,” “Angelshark, sawback,” and “Angelshark, smoothback”;

iii. Adding in alphabetical order an entry for “Angelshark, spiny”;

iv. Revising the entries for “Cardinalfish, Banggai” and “Coelacanth, African [Tanzanian DPS]”;

v. Adding in alphabetical order entries for “Grouper, gulf” and “Grouper, island”;

vi. Revising the entry for “Grouper, Nassau”;

vii. Adding in alphabetical order entries for “Guitarfish, blackchin,” “Guitarfish, Brazilian,” “Guitarfish, common,” and “Ray, giant manta”;

viii. Removing the entry for “Rockfish, canary [Puget Sound-Georgia Basin DPS]”;

ix. Adding in alphabetical order entries for “Shark, daggernose,” “Shark, narrownose smoothhound,” “Shark, oceanic whitetip,” and “Shark, striped smoothhound”; and

x. Revising the entries for “Sturgeon, Atlantic (Atlantic subspecies) [Carolina DPS],” “Sturgeon, Atlantic (Atlantic subspecies) [Chesapeake Bay DPS],” “Sturgeon, Atlantic (Atlantic subspecies) [Gulf of Maine DPS],” “Sturgeon, Atlantic (Atlantic subspecies) [New York Bight DPS],” and “Sturgeon, Atlantic (Atlantic subspecies) [South Atlantic DPS]”;

d. Under the heading CORALS, by revising the entries for “Coral, (no common name) [Cantharellus noumeae],” “Coral, (no common name) [Siderastrea glynni],” and “Coral, (no common name) [Tubastraea floreana]”; and

e. By adding at the end of the table a new heading CEPHALOPODS, and adding under that new heading an entry for “Nautilus, chambered.”

The additions and revisions read as follows:

17.11 Endangered and threatened wildlife.

* * * * *

(h) * * *

Common name | Scientific name | Where listed | Status | Listing citations and applicable rules
Mammals
* * * * * * *
Dolphin, Hector's | Cephalorhynchus hectori hectori | Wherever found | T | 82 FR 43701, 9/19/2017; N 84 FR [insert Federal Register page where the document begins], 4/8/2019.
Dolphin, Maui | Cephalorhynchus hectori maui | Wherever found | E | 82 FR 43701, 9/19/2017; N 84 FR [insertFederal Register page where the document begins], 4/8/2019.
* * * * * * *
Dolphin, Taiwanese humpback | Sousa chinensis taiwanensis | Wherever found | E | 83 FR 21182, 5/9/2018; N 84 FR [insert Federal Register page where the document begins], 4/8/2019.
* * * * * * *
Seal, ringed (Saimaa subspecies) | Phoca (=Pusa) hispida saimensis | Wherever found | E | 58 FR 26920, 5/6/1993; N 58 FR 40538, 7/28/1993.
* * * * * * *
Whale, false killer [Main Hawaiian Islands Insular DPS] | Pseudorca crassidens | Main Hawaiian Islands Insular DPS—see 50 CFR 224.101 | E | 77 FR 70915, 11/28/2012; N 79 FR 42687, 7/23/2014; 50 CFR 226.226. CH
* * * * * * *
Reptiles
* * * * * * *
Sea snake, dusky | Aipysurus fuscus | Wherever found | E | 80 FR 60560, 10/7/2015; N 81 FR 76311, 11/2/2016.
* * * * * * *
Fishes
* * * * * * *
Angelshark, Argentine | Squatina argentina | Wherever found | E | 82 FR 21722, 5/10/2017; N 84 FR [insert Federal Register page where the document begins], 4/8/2019.
Angelshark, common | Squatina squatina | Wherever found | E | 81 FR 50394, 8/1/2016; N 81 FR 76311, 11/2/2016.
Angelshark, sawback | Squatina aculeata | Wherever found | E | 81 FR 50394, 8/1/2016; N 81 FR 76311, 11/2/2016.
Angelshark, smoothback | Squatina oculata | Wherever found | E | 81 FR 50394, 8/1/2016; N 81 FR 76311, 11/2/2016.
Angelshark, spiny | Squatina guggenheim | Wherever found | E | 82 FR 21722, 5/10/2017; N 84 FR [insert Federal Register page where the document begins], 4/8/2019.
* * * * * * *
Cardinalfish, Banggai | Pterapogon kauderni | Wherever found | T | 81 FR 3023, 1/20/2016; N 81 FR 76311, 11/2/2016.
* * * * * * *
Coelacanth, African [Tanzanian DPS] | Latimeria chalumnae | Tanzanian DPS—see 50 CFR 223.102 | T | 81 FR 17398, 3/29/2016; N 81 FR 76311, 11/2/2016.
* * * * * * *
Grouper, gulf | Mycteroperca jordani | Wherever found | E | 81 FR 72545, 10/20/2016; N 84 FR [insert Federal Register page where the document begins], 4/8/2019.
Grouper, island | Mycteroperca fusca | Wherever found | T | 81 FR 72545, 10/20/2016; N 84 FR [insert Federal Register page where the document begins], 4/8/2019.
Grouper, Nassau | Epinephelus striatus | Wherever found | T | 81 FR 42268, 6/29/2016; N 81 FR 76311, 11/2/2016.
Guitarfish, blackchin | Rhinobatos cemciculus | Wherever found | T | 82 FR 6309, 1/19/2017; N 84 FR [insert Federal Register page where the document begins], 4/8/2019.
Guitarfish, Brazilian | Rhinobatos horkelii | Wherever found | E | 82 FR 21722, 5/10/2017; N 84 FR [insert Federal Register page where the document begins], 4/8/2019.
Guitarfish, common | Rhinobatos rhinobatos | Wherever found | T | 82 FR 6309, 1/19/2017; N 84 FR [insert Federal Register page where the document begins], 4/8/2019.
* * * * * * *
Ray, giant manta | Manta birostris | Wherever found | T | 83 FR 2916, 1/22/2018; N 84 FR [insert Federal Register page where the document begins], 4/8/2019.
* * * * * * *
Shark, daggernose | Isogomphodon oxyrhynchus | Wherever found | E | 82 FR 21722, 5/10/2017; N 84 FR [insert Federal Register page where the document begins], 4/8/2019.
Shark, narrownose smoothhound | Mustelus schmitti | Wherever found | T | 82 FR 21722, 5/10/2017; N 84 FR [insert Federal Register page where the document begins], 4/8/2019.
Shark, oceanic whitetip | Carcharhinus longimanus | Wherever found | T | 83 FR 4153, 1/30/2018; N 84 FR [insert Federal Register page where the document begins], 4/8/2019.
* * * * * * *
Shark, striped smoothhound | Mustelus fasciatus | Wherever found | E | 82 FR 21722, 5/10/2017; N 84 FR [insert Federal Register page where the document begins], 4/8/2019.
* * * * * * *
Sturgeon, Atlantic (Atlantic subspecies) [Carolina DPS] | Acipenser oxyrinchus oxyrinchus | Carolina DPS—see 50 CFR 224.101 | E | 77 FR 5914, 2/6/2012; N 79 FR 42687, 7/23/2014; 50 CFR 226.225. CH
Sturgeon, Atlantic (Atlantic subspecies)[Chesapeake Bay DPS] | Acipenser oxyrinchus oxyrinchus | Chesapeake Bay DPS—see 50 CFR 224.101 | E | 77 FR 5880, 2/6/2012; N 79 FR 42687, 7/23/2014; 50 CFR 226.225. CH
Sturgeon, Atlantic (Atlantic subspecies)[Gulf of Maine DPS] | Acipenser oxyrinchus oxyrinchus | Gulf of Maine DPS—see 50 CFR 223.102 | T | 77 FR 5880, 2/6/2012; N 79 FR 42687, 7/23/2014; 50 CFR 223.211; 4d 50 CFR 226.225. CH
Sturgeon, Atlantic (Atlantic subspecies)[New York Bight DPS] | Acipenser oxyrinchus oxyrinchus | New York Bight DPS—see 50 CFR 224.101 | E | 77 FR 5880, 2/6/2012; N 79 FR 42687, 7/23/2014; 50 CFR 226.225. CH
Sturgeon, Atlantic (Atlantic subspecies)[South Atlantic DPS] | Acipenser oxyrinchus oxyrinchus | South Atlantic DPS—see 50 CFR 224.101 | E | 77 FR 5914, 2/6/2012; N 79 FR 42687, 7/23/2014; 50 CFR 226.225. CH
* * * * * * *
Corals
* * * * * * *
Coral, (no common name) | Cantharellus noumeae | Wherever found | E | 80 FR 60560, 10/7/2015; N 81 FR 76311, 11/2/2016.
* * * * * * *
Coral, (no common name) | Siderastrea glynni | Wherever found | E | 80 FR 60560, 10/7/2015; N 81 FR 76311, 11/2/2016.
Coral, (no common name) | Tubastraea floreana | Wherever found | E | 80 FR 60560, 10/7/2015; N 81 FR 76311, 11/2/2016.
* * * * * * *
Cephalopods
Nautilus, chambered | Nautilus pompilius | Wherever found | T | 83 FR 48976, 9/28/2018; N 84 FR [insert Federal Register page where the document begins], 4/8/2019.

Dated: March 20, 2019.
Margaret E. Everson,
Principal Deputy Director, U.S. Fish and Wildlife Service, Exercising the Authority of the Director, U.S. Fish and Wildlife Service.

[FR Doc. 2019-06758 Filed 4-5-19; 8:45 am]

BILLING CODE 4333-15-P